FEDERAL DEPOSIT INSURANCE CORPORATION

12 CFR Part 337

Technical Amendments to Interest Rate Restrictions on Insured Depository Institutions That Are Not Well Capitalized; Withdrawal

AGENCY: Federal Deposit Insurance Corporation (FDIC).

ACTION: Final rule; withdrawal.

SUMMARY: The Federal Deposit Insurance Corporation published in the Federal Register of June 3, 2009 (74 FR 26516), a final rule concerning Interest Rate Restrictions on Insured Depository Institutions That Are Not Well Capitalized. Inadvertently a draft version of the document was published instead of the version adopted by the FDIC Board of Directors. The Federal Deposit Insurance Corporation withdraws the rule published at 74 FR 26516. The correct version of the final rule is published elsewhere in this Federal Register.

DATES: Effective on June 11, 2009, the final rule amending 12 CFR part 337 published June 3, 2009 (74 FR 26516) is withdrawn.

FOR FURTHER INFORMATION CONTACT: Christopher L. Hencke, 202-898-8839; E-mail: Chencke@fdic.gov.

SUPPLEMENTARY INFORMATION: The Federal Deposit Insurance Corporation published in the Federal Register of June 3, 2009, a final rule concerning Interest Rate Restrictions on Insured Depository Institutions That Are Not Well Capitalized. Inadvertently a draft version of the document was published instead of the version adopted by the FDIC Board of Directors. This document is withdrawn and the correct version is published elsewhere in this Federal Register. Although the differences in the two versions are not extensive, the correct final rule is being published in its entirety to ensure clarity.

Dated: June 5, 2009.
Robert E. Feldman,
Executive Secretary.

[FR Doc. E9-13749 Filed 6-10-09; 8:45 am]

BILLING CODE 6714-01-P